DEPARTMENT OF HEALTH AND HUMAN SERVICES

Health Resources and Services Administration

Advisory Committee on Training in Primary Care Medicine and Dentistry; Notice of Meeting

In accordance with section 10(a)(2) of the Federal Advisory Committee Act (Pub. L. 92-463), notice is hereby given of the following meeting:

Name: Advisory Committee on Training in Primary Care, Medicine and Dentistry (ACTPCMD).

Date and Time: November 15, 2010, 8:30 a.m.-4:30 p.m.

November 16, 2010, 8 a.m.-2 p.m.

Place: Hilton Washington DC/Rockville Executive Meeting Center, 1750 Rockville Pike, Rockville, Maryland 20910.

Status: The meeting will be open to the public.

Purpose: The Advisory Committee provides advice and recommendations on a broad range of issues dealing with programs and activities authorized under section 747 of the Public Health Service Act as amended by The Patient Protection and Affordable Care Act, Public Law 111-148. At this meeting the Advisory Committee will work on its ninth report about the primary care pipeline. Reports are submitted to Congress and to the Secretary of the Department of Health and Human Services.

Agenda: The meeting on Monday, November 15 will begin with opening remarks from the Interim Chair of the Advisory Committee and welcoming comments from senior management of the Health Resources and Services Administration. The Advisory Committee will work on its ninth report about revitalizing primary care by priming the primary care pipeline. In both plenary sessions and in small groups, the Advisory Committee will focus on report recommendations and the content of the report. On the first day of the meeting, annual elections will be held for Chair and two Vice Chairs. On Tuesday, November 16, the Advisory Committee will finalize its ninth report and plan for the next Advisory Committee meeting. An opportunity will be provided for public comment.

For further information contact: Anyone interested in obtaining a roster of members or other relevant information should write or contact Jerilyn K. Glass, M.D., Ph.D., Advisory Committee Executive Secretary, Division of Medicine and Dentistry, Bureau of Health Professions, Health Resources and Services Administration, Room 9A-27, Parklawn Building, 5600 Fishers Lane, Rockville, Maryland 20857, Telephone (301) 443-7271. The Web address for information on the Advisory Committee and the November 15-16, 2010 meeting agenda is http://bhpr.hrsa.gov/medicine-dentistry/actpcmd.

Dated: October 12, 2010.
Wendy Ponton,
Director, Office of Management.

[FR Doc. 2010-26205 Filed 10-18-10; 8:45 am]

BILLING CODE 4165-15-P